DEPARTMENT OF THE INTERIOR

Bureau of Land Management

[WY-100-03-1310-DB]

Notice of Intent to Conduct Scoping and Prepare an Environmental Impact Statement for the South Piney Natural Gas Development Project, Sublette County, Wyoming

AGENCY: Bureau of Land Management, Interior.

ACTION: Notice of intent (NOI) to conduct public scoping and prepare an Environmental Impact Statement (EIS) for the South Piney Natural Gas Development Project, Sublette County, Wyoming.

SUMMARY: Infinity Oil and Gas of Wyoming, Inc. (Infinity) and Williams Production RMT Company (Williams, and hereinafter referred to collectively as “the Companies”) have submitted to the Bureau of Land Management (BLM) a proposal to develop Federal natural gas resources. The South Piney Natural Gas Development Project is located in the area known as South Piney, which is located in Sublette County, Wyoming. Under the provisions of section 102(2)(C) of the National Environmental Policy Act (NEPA) and pertinent Federal regulations, the BLM announces its intentions to prepare an EIS, and solicit public comments regarding issues and resource information pertaining to this proposed project.

DATES: This notice initiates the public scoping process. The BLM can best use public input if comments and resource information are submitted within 60 days of the publication of this notice. In addition, a scoping notice will be distributed by mail on, or about, the date that this notice is published in the Federal Register. Additional information, and a copy of the scoping notice may be obtained by writing, or visiting, the BLM Field Office listed below.

The BLM will be soliciting representatives from affected interests and stakeholders to participate in the environmental analysis process. In addition, the BLM will host a public meeting within 60 days of the publication of this notice. All comments received at the public meeting or submitted in writing by mail will aid the BLM in identifying issues, developing a range of alternatives, and analyzing environmental impacts. The BLM will announce public meetings and comment periods through local news media and/or the Pinedale Field Office Web site (http://www.wy.blm.gov/pfo/info.htm), at least 15 days prior to the event. The BLM will also provide additional opportunities for public participation throughout the preparation of the EIS.

ADDRESSES: Comments should be submitted in writing to: Field Manager, Bureau of Land Management, Pinedale Field Office, 432 East Mill Street, PO Box 768, Pinedale, Wyoming 82941.

FOR FURTHER INFORMATION CONTACT: Bill Lanning, Project Manager, BLM, Pinedale Field Office, PO Box 768, Pinedale, Wyoming 82941, telephone 307-367-5300.

SUPPLEMENTARY INFORMATION: In July 2002, the Companies submitted to the BLM a proposal to develop natural gas resources in the South Piney area. The total project area includes approximately 31,230 acres, of which approximately 15,440 acres are comprised of Federal surface and mineral estate managed by BLM; 1,760 acres of State of Wyoming surface and minerals; and 14,030 acres of private surface ownership. Of the 14,030 acres of private surface ownership, 11,413 acres are “split estate” (private surface/Federal minerals) lands, with the remaining 2,617 acres of mineral estate in private ownership.

The South Piney Natural Gas Development Project area is located in the southwest corner of Sublette County, approximately 12 miles west of Big Piney-Marbleton, 18 miles northwest of LaBarge, and approximately 28 miles southwest of Daniel, Wyoming. Drilling is proposed in Townships 29 and 30 North, Range 114 West, 6th Principal Meridian. Access to the project area is from U.S. Highway 189, Wyoming Highway 350, Sublette County Road No. 23-142, and existing roads and two-track trails in the overall project area.

The Companies propose to drill a minimum of 100 to a maximum of 210 natural gas wells within the overall project area. Infinity intends to drill wells to a maximum depth of approximately 5,000 feet to recover coalbed methane from the Upper Cretaceous Mesaverde Formation. Williams plans to drill wells to a maximum depth of 10,000 feet to recover natural gas from the Frontier Formation. The project area currently has five wells producing from coal seams in the Mesaverde Formation, one well currently producing from the Frontier Formation, one water disposal well, and four shut-in/temporarily abandoned deep Madison Formation gas wells. Williams drilled two additional Frontier Formation wells in Fall 2002.

The Companies' proposal includes a drilling program based on a 160-acre spacing pattern (four wells per section) for both the Mesaverde and Frontier Formations. The Companies have a joint interest in approximately 9,680 acres, and development in this area may result in the drilling of up to eight wells per section (four wells to the Mesaverde Formation and four wells to the Frontier Formation on a common or shared 160 acre spacing pattern). The remainder of the overall project area would see either Mesaverde or Frontier Formation development at a density of four wells per section.

The proposed gas field development would include the following associated structures and facilities:

1. Each well location would have a separator, dehydrator, and produced water storage tanks. Infinity's Mesaverde Formation well locations would require a surface-pumping unit for dewatering the Mesaverde coals. Infinity anticipates the need to install up to 20 central production facilities (production pods) within the overall project area. These production facilities would collect and compress methane produced from wells in the well field, as well as collect and dispose of produced water.

2. An access road and buried gas and produced water lines would be constructed to each well location. Infinity's Mesaverde Formation wells would require a water disposal line for transmission of produced water to a central disposal facility. The produced water line would be placed in a common trench with the gas line.

3. Up to four natural gas transmission pipelines would be constructed and would tie-in with an existing 4-inch diameter gas pipeline located east of the project area in Section 1, T29N, R114W. During the projected life of the project the existing 4-inch gas transmission line may need to be looped, or replaced, with a larger diameter line to accommodate the volume of gas produced from the area.

4. Infinity anticipates the installation of small reciprocating compressors at each of the individual Mesaverde Formation production pods within the well field for compression of methane produced from individual wells within the well field. Williams anticipates the need for one centralized compressor station for the compression of natural gas from the Frontier Formation.

5. A water disposal and injection well would be drilled at each of Infinity's centralized production pods for the subsurface disposal of water produced from the Mesaverde Formation. The produced water would be reinjected into a deep aquifer below the Mesaverde Formation.

The Companies propose to drill an average of approximately 30 wells/year over a 7-year period. After consultation with U.S. Fish and Wildlife Service regarding threatened and endangered species, BLM may authorize additional delineation wells while the EIS is being prepared. Results from additional delineation wells would assist the Companies in determining the actual level of development to achieve Federal regulatory mandates of ultimate maximum recovery of Federal mineral resources. Approval would be granted provided that, (1) the additional delineation wells would not result in potential significant impacts, and (2) that BLM's final decision would not be compromised.

The purpose of the natural gas development is to extract and recover natural gas from the South Piney Project area by allowing the Companies to provide more natural gas for distribution to consumers. The project would make additional supplies of clean-burning natural gas available to consumers. In addition, this project would meet the goals and objectives of the President's National Energy Plan, which includes diversifying domestic energy supplies, improving and accelerating environmental protection and strengthening America's energy security.

BLM personnel, other agencies, and individuals have identified the preliminary issues and management concerns listed below. They represent the BLM's knowledge to date on the existing conditions and potential issues in the proposed project area.

• Air quality and potential impacts to downwind Wilderness Areas and other Class I air sheds;

• Potential impacts to federally listed Threatened, Endangered, Candidate and Sensitive species and their habitats;

• Potential impacts to native Colorado River cutthroat trout habitat;

• Potential impacts to the Finnegan elk winter feed ground protected by No Surface Occupancy stipulations;

• Potential impacts to surface and groundwater resources;

• Short-term revegetation and restoration of disturbed areas and their long-term stabilization, including control of noxious weeds;

• Potential impacts on prehistoric and historic cultural resources including the Lander Cutoff Historic Immigrant Trail;

• Potential social and economic effects to the local communities from projected increased Federal, State, and local revenues;

• Potential impacts to wildlife habitat and fisheries;

• Potential impacts to nesting raptors;

• Potential impacts on wetlands and riparian areas;

• Use of potentially hazardous substances associated with drilling and well completion;

• Potential impacts to the visual resources and landscape; and,

• Potential impacts to recreation activities and opportunities such as hunting and fishing.

The BLM has identified the following opportunities that may be derived from the natural gas development: increased royalties and tax revenues to local, State and Federal governments; additional opportunities for employment and economic benefits for communities near the project area; increases in Wyoming's share of new and existing natural gas markets; and development of natural gas resources to assist in attainment of clean air in conformance with Presidential and Congressional directives. The proposed natural gas development is in conformance with the Pinedale Resource Management Plan (RMP) (1988).

Dated: November 25, 2002.
Alan L. Kesterke,
Acting State Director.

[FR Doc. 03-2046 Filed 1-28-03; 8:45 am]

BILLING CODE 4310-22-P